DEPARTMENT OF HEALTH AND HUMAN SERVICES

Agency for Healthcare Research and Quality

Request for Nominations for AHRQ Study Section Members—Notice of Correction

On page 55334, Volume 75, Number 175, Federal Register notice publication dated September 10, 2010, under “ADDRESSES” section, the correct e-mail address is: Kishena.Wadhwani@AHRQ.hhs.gov.

Dated: September 17, 2010.
Carolyn M. Clancy,
Director, AHRQ.

[FR Doc. 2010-24425 Filed 9-29-10; 8:45 am]

BILLING CODE 4160-90-M